DEPARTMENT OF ENERGY

Federal Energy Regulatory Commission

[Docket No. EL06-47-000]

Devon Power LLC, Complainant v. ISO New England, Inc., Respondent; Notice of Complaint

January 13, 2006.

Take notice that on January 12, 2006, Devon Power LLC filed a formal complaint against ISO New England, Inc. pursuant to 18 CFR 385.206 and Rule 206 of the Commission's Rule of Practice and Procedure, seeking appeal, pursuant to section 6.3.6 of the ISO New England Billing Policy, of ISO-NE England Inc.'s denial of Devon Power LLC's Requested Billing Adjustment submitted on November 9, 2005.

Devon Power LLC states that copies of the complaint were served on the contacts for ISO New England, Inc.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on February 1, 2006.

Magalie R. Salas,
Secretary.

[FR Doc. E6-605 Filed 1-19-06; 8:45 am]

BILLING CODE 6717-01-P